DEPARTMENT OF JUSTICE

[OMB Number 1121-NEW]

Agency Information Collection Activities; Proposed eCollection eComments Requested; New Collection; National Criminal Justice Reference Service (NCJRS) Online Subscription Center

AGENCY: Office of Communications, Office of Justice Programs, Department of Justice.

ACTION: 60-day notice.

SUMMARY: The Department of Justice (DOJ), Office of Justice Programs (OJP), Office of Communications (OCOM) will be submitting the following information collection request to the Office of Management and Budget (OMB) for review and approval in accordance with the Paperwork Reduction Act of 1995.

DATES: Comments are encouraged and will be accepted for 60 days until February 19, 2019.

FOR FURTHER INFORMATION CONTACT: If you have additional comments especially on the estimated public burden or associated response time, suggestions, or need a copy of the proposed information collection instrument with instructions or additional information, please contact Sharon Williams, NCJRS COR/Senior Program Specialist, Office of Communications, 810 Seventh Street NW, Washington, DC 20531 (email: sharon.j.williams@ojp.usdoj.gov; telephone: 202-353-8726).

SUPPLEMENTARY INFORMATION: Written comments and suggestions from the public and affected agencies concerning the proposed collection of information are encouraged. Your comments should address one or more of the following four points:

—Evaluate whether the proposed collection of information is necessary for the proper performance of the functions of the Office of Communications, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of this information collection:

1. Type of Information Collection: Revision of a currently approved collection.

2. The Title of the Form/Collection: National Criminal Justice Reference Service (NCJRS) online subscription center: https://www.ncjrs.gov/App/Secure/Registration/Register.aspx/

3. The agency form number, if any, and the applicable component of the Department sponsoring the collection: There is no form number.

4. Affected public who will be asked or required to respond, as well as a brief abstract: Currently, constituents can sign-up for communications, such as new publications, funding opportunities, events, and other news and announcements from NCJRS and the NCJRS federal sponsors, place online orders, and track their order status by creating a detailed profile on NCJRS.gov. End Users can also subscribe to specific Bureau, Program Office, and shared email notification lists and newsletters when creating an NCJRS account. This action can also be accomplished on various Bureau, Program Office, or GovDelivery webpages.

However, the NCJRS online subscription center is more than 14 years old and subscription form selections have remained relatively unchanged for more than 20 years. Moreover, the subscription process includes 19 required fields and 7 different screens, creating an undue burden for End Users.

An evaluation of the current use of the information collected through the form and its impact to End Users was conducted to see where updates can be made to make for a better user experience while enabling customer segmentation strategies for targeted outreach. The goals for revising the subscription process are to increase subscriptions by making the sign-up process less cumbersome for users and collect meaningful customer information to assist segmentation strategies for targeted outreach and upselling of Bureau and program office products and services.

5. An estimate of the total number of respondents and the amount of time estimated for an average respondent to respond: On a monthly basis, an estimated 75 End Users use the NCJRS online subscription center to subscribe. Based on pilot testing, an average of 2-4 minutes per respondent is needed to complete form. The estimated range of burden for respondents is expected to be between 2 minutes to 4 minutes for completion.

6. An estimate of the total public burden (in hours) associated with the collection: It is estimated that respondents will take 2-4 minutes to complete their profile. The estimated public burden hours associated for End Users to subscribe is 5 hours per month (75 respondents × 4 minutes = 300 minutes/60 minutes = 5 hours) or 60 hours per year (5 hours × 12 months = 60 hours).

If additional information is required contact: Melody Braswell, Department Clearance Officer, United States Department of Justice, Justice Management Division, Policy and Planning Staff, Two Constitution Square, 145 N Street NE, 3E.405A, Washington, DC 20530.

Dated: December 14, 2018.
Melody Braswell,
Department Clearance Officer for PRA, U.S. Department of Justice.

[FR Doc. 2018-27490 Filed 12-19-18; 8:45 am]

BILLING CODE 4410-18-P